DEPARTMENT OF COMMERCE

National Oceanic and Atmospheric Administration

Hydrographic Services Review Panel Meeting for March 3-4, 2021

AGENCY: National Ocean Service (NOS), National Oceanic and Atmospheric Administration (NOAA), Department of Commerce.

ACTION: Announcement for open public meeting and notice of request for public comments.

SUMMARY: This serves as notice of a virtual public meeting for the NOAA Hydrographic Services Review Panel (HSRP) on March 3, 2021, 12:45-5:30 p.m. EST, and March 4, 2021, 1-5 p.m. EST via webinar. The HSRP agenda will be posted in advance on the website. Individuals or groups who want to comment on NOAA navigation services topics are encouraged to submit advance public comments and letters via email or via the question function in the webinar.

DATES:

NOAA HSRP public virtual meeting will meet via webinar as follows:

1. March 3, 2021, 12:45-5:30 p.m., EST.

2. March 4, 2021, 1-5 p.m. EST.

ADDRESSES: You may submit public comments identified by “March 2021 HSRP meeting public comments” in the subject line of the message in advance of the meeting or request to be added to the meeting announcements list by sending an email request to: Virginia.Dentler@noaa.gov, and hydroservices.panel@noaa.gov.

FOR FURTHER INFORMATION CONTACT: Lynne Mersfelder-Lewis, HSRP program manager, Office of Coast Survey, NOS, NOAA, email: hydroservices.panel@noaa.gov, Lynne.Mersfelder@noaa.gov, and phone 240-533-0064.

SUPPLEMENTARY INFORMATION: Advance registration is required for the webinar at: https://register.gotowebinar.com/register/6060715212000442635. The agenda, speakers and time are subject to change, please refer to the website for the most updated information. The HSRP meeting agenda, draft meeting documents, presentations, and background materials are posted and updated online and can be downloaded prior to the meeting at: https://www.nauticalcharts.noaa.gov/hsrp/hsrp.html and https://www.nauticalcharts.noaa.gov/hsrp/meetings.html.

Past HSRP recommendation letters, issue and position papers are located online at: https://www.nauticalcharts.noaa.gov/hsrp/recommendations.html.

Public comments are encouraged and requested on the navigation services portfolio for CO-OPS, NGS and OCS. Advance written statements will be shared with the HSRP members and will be included in the meeting public record. Due to the condensed nature of the meeting, each individual or group providing written public comments will be limited to one comment per public comment period with no repetition of previous comments. Comments can also be submitted in writing during the public comment period through the webinar. Comments will be read into the record, transcribed, and become part of the meeting record. Due to time meeting constraints, all comments may not be addressed during the meeting.

The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice.

Matters To Be Considered

The panel is convening on issues relevant to NOAA's navigation services, including stakeholder use of navigation services data, products and services, and other topics related to hydrographic surveys, nautical charting, the ongoing National Spatial Reference System (NSRS) modernization including changes to flood plain management, navigation services contributions to resilience and coastal data and information systems, coastal and ocean modeling, PORTS® (Physical Oceanographic Real-Time System) sensor enhancements and expansion, the projects of the NOAA-University of New Hampshire Joint Hydrographic Center Cooperative Agreement, the new NOAA five-year cooperative agreement with the University of Southern Florida to launch the Center for Ocean Mapping and Innovative Technologies (COMIT), updates on legislative and budget priorities, and other topics. Navigation services include the data, products, and services provided by the NOAA programs and activities that undertake geodetic observations, gravity modeling, coastal and shoreline mapping, bathymetric mapping and modeling, hydrographic surveying, nautical charting, tide and water level observations, current observations, flooding, resilience, inundation and sea level rise, marine and coastal modeling, geospatial and LIDAR data, and related topics. This suite of NOAA products and services support safe and efficient navigation, resilient coasts and communities, and the nationwide positioning information infrastructure to support America's climate needs and commerce. The Panel will hear about the missions and uses of NOAA's navigation services, the value these services bring, and what improvements could be made. Other matters may be considered.

Special Accommodations

This meeting is physically accessible to people with disabilities and there will be sign language interpretation and captioning services. Please direct requests for other auxiliary aids to Melanie.Colantuno@noaa.gov at least 10 business days in advance of the meeting.

Kathryn Ries,
Deputy Director, Office of Coast Survey, National Ocean Service, National Oceanic and Atmospheric Administration.

[FR Doc. 2021-01193 Filed 1-19-21; 8:45 am]

BILLING CODE 3510-JE-P